DEPARTMENT OF ENERGY

Western Area Power Administration

Eastern Plains Transmission Project, Colorado and Kansas

AGENCY: Western Area Power Administration, DOE.

ACTION: Notice of public meeting and additional opportunity for public review and comment.

SUMMARY: The U.S. Department of Energy (DOE), Western Area Power Administration (Western) issued a notice of intent (NOI) to prepare an Environmental Impact Statement (EIS) on August 2, 2006, for the Eastern Plains Transmission Project (EPTP or Transmission Project). This notice announces an additional public meeting to provide the public opportunity to review and comment on additional and revised transmission line routes and the scope of the EIS. A summary of comments previously received during the scoping meetings held in August and September 2006, and meetings held in February 2007, is available upon request or at http://www.wapa.gov/transmission/eptp.htm.

Western is proposing to participate with Tri-State Generation and Transmission Association, Incorporated (Tri-State) in the construction of the EPTP. Western's participation would be in exchange for 275 megawatts (MW) of capacity rights on the proposed transmission lines. The EIS will address the construction, operation, and maintenance of approximately 1,000 miles of high-voltage transmission lines and ancillary facilities, which include substations, fiber optic installations, access roads, and construction staging areas. The EIS will discuss alternatives such as Western's system alternatives and the no action alternative (no Federal action). The EIS will analyze and present environmental impacts compared to the existing baseline condition in which no Transmission Project facilities exist. The EIS also will include analyses of the environmental impacts of Tri-State's proposed generation and other past, present and reasonably foreseeable projects in the EPTP area. The EIS will be prepared in accordance with the National Environmental Policy Act (NEPA) and DOE NEPA Implementing Procedures.

DATES: The public meeting will be held June 20, 2007. The meeting will be held between 5 and 8 p.m. The comment period will close July 5, 2007.

ADDRESSES: The public meeting will be held at the Miami-Yoder School, 420 S. Rush Road, Rush, CO 80833. Written comments, questions, and information on the scope of the EIS may be mailed, faxed, or e-mailed to Mr. Jim Hartman, Environmental Manager, Western Area Power Administration, Rocky Mountain Region, P.O. Box 3700, Loveland, CO 80539; fax (970) 461-7213; or e-mail eptp@wapa.gov. For persons wishing to leave voice messages, the toll-free number is (888) 826-4710.

FOR FURTHER INFORMATION CONTACT: For further information or to request copies of the EIS, contact Mr. Hartman at the addresses provided or telephone the Transmission Project toll-free number at (888) 826-4710. For general information on DOE's NEPA review procedures or the status of a NEPA review, contact Ms. Carol M. Borgstrom, Director, Office of NEPA Policy and Compliance (GC-20), U.S. Department of Energy, 1000 Independence Avenue, SW., Washington, DC 20585-0119; telephone (202) 586-4600 or (800) 472-2756; or fax (202) 586-7031.

SUPPLEMENTARY INFORMATION:

Background and Need for Agency Action

Western, a power marketing administration within DOE, markets Federal hydroelectric power to preferred customers, as specified by law. They include municipalities, cooperatives, public utility and irrigation districts, Federal and state agencies, and Native American tribes in 15 western states, including Colorado and Kansas. Western's proposal is to participate with Tri-State in the construction of the Transmission Project in exchange for approximately 275 MW of capacity rights on the proposed transmission lines. Tri-State is a wholesale electric power supplier, owned by the 44 electric cooperatives it serves. Tri-State and the member utilities serve customers throughout Colorado, Nebraska, New Mexico, and Wyoming.

Western needs to provide more economical, reliable, diverse, and flexible power delivery to its customers by expanding the capability and geographic reach of Western's existing transmission system. The Transmission Project would provide Western's customers with more economical service by allowing customers to purchase transmission service directly from Western rather than through other companies' transmission lines. Also, during low water times, the Transmission Project would provide Western increased access to other options for satisfying Western's Federal hydropower contractual allocations. In addition, the Transmission Project would provide a direct interconnection at the Midway Substation which would facilitate power transfer between two of Western's Federal projects, the Colorado River Storage Project and the Loveland Area Projects. Enhancing and expanding transmission pathways also would contribute to ensuring reliability of the Federal transmission system.

Proposed Action and Alternatives

Western is preparing the EIS on its proposal to participate with Tri-State in the construction of the Transmission Project. Western's proposed activities include construction planning and management for approximately 1,000 miles of high-voltage transmission lines, and acquiring rights-of-way for transmission lines, access roads, and communication facilities. In addition to the environmental effects of the transmission lines, access roads, and construction staging areas, the EIS will address environmental effects of four new substations, expansions of approximately eight existing substations, and installing a fiber optic communications system for control of the transmission lines.

Western issued a NOI to prepare an EIS for the Transmission Project on August 2, 2006 (71 FR 43733), which included dates, times, and locations of public scoping meetings, and opportunities available for the public to comment. Since the NOI was published, 10 public scoping meetings were conducted between August 28 and September 14, 2006, throughout eastern Colorado and western Kansas. Western issued a second notice of public meetings and additional opportunity for public review and comment on January 19, 2007 (72 FR 2507), and 10 public meetings were conducted between February 12 and 23, 2007. This notice announces an additional public meeting on June 20, 2007, to provide the public an opportunity to review and comment on additional and revised transmission line routes between Big Sandy Substation and Midway Substation, and on the scope of the EIS.

Alternative Transmission Line Routes

During the August and September 2006 scoping meetings, Western presented preliminary locations of transmission line corridors and new substations. As a result of comments received, Western gathered additional data, made several route refinements, added additional routes, and considered alternatives, all of which were made available to the public at the February 2007 meetings. At the February meetings, Western accepted comments on the routes. As a result of the comments received on routes between Big Sandy Substation and Midway Substation, Western determined that additional route refinement and public involvement would be beneficial to refining routes in the area. The route refinements will be presented at the public meeting in June. At the June meeting, Western seeks comments on the alternative routes and other issues related to scope of the EIS. Western will consider the comments in its analysis.

Western will address other alternatives in the EIS, including the no action alternative. Under the no action alternative, Western would not participate with Tri-State in the construction of the Transmission Project. The EIS will evaluate the environmental effects of the alternatives and compare them to the existing baseline condition, in which no Transmission Project facilities are present. Alternative transmission line routes and substation locations will be refined as part of the EIS public process and addressed in the EIS. Western will consider additional reasonable alternatives that are technically and economically viable and that would meet Western's purpose and need.

Impacts Associated With Tri-State's Generation Projects

Tri-State proposes to develop coal-fired generation in Holcomb, Kansas, and is planning for additional generation projects. Western is not a participant in, is not involved in, and does not have control over Tri-State's generation projects. The EIS will evaluate the environmental impacts of Tri-State's generation as well as other past, present, and reasonably foreseeable projects.

Summary of Comments Received During First and Second Round Scoping

Western prepared a summary of the comments received during the first round of scoping meetings. That summary is available at http://www.wapa.gov/transmission/eptp.htm. Prior to the public meeting in June 2007, the comments from the February 2007 meetings will be available at the same internet address. Copies also are available on request.

Participation in the NEPA Process

Persons interested in receiving future notices, Transmission Project information, copies of the EIS, and other information on the NEPA review process should contact Mr. Hartman as described under ADDRESSES. The EIS (choice of summary or full document) will be available in printed and electronic (compact disc) formats.

Western anticipates the draft EIS will be available summer 2007, with a final EIS available spring 2008. A Record of Decision is expected to be issued spring 2008. The public will be provided an opportunity to comment on the draft EIS. The location of public hearings on the draft EIS will be provided in the Federal Register and to local media at a later date.

Dated: May 23, 2007.
Timothy J. Meeks,
Administrator.

[FR Doc. E7-10697 Filed 6-1-07; 8:45 am]

BILLING CODE 6450-01-P